DEPARTMENT OF TRANSPORTATION

Federal Highway Administration

[Docket No. FHWA-2012-0049]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by August 21, 2012.

ADDRESSES: You may submit comments identified by DOT Docket ID 2012-0049 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Marlys Osterhues, 202-366-2052, Department of Transportation, Federal Highway Administration, Office of Project Development and Environmental Review, E76-312, 1200 New Jersey Avenue SE., Washington, DC 20590. Office hours are from 8 a.m. to 5 p.m., Monday through Friday, except Federal holidays.

SUPPLEMENTARY INFORMATION: Title: FHWA Environmental Excellence Awards.

Background: In 1995 FHWA established the biennial Environmental Excellence Awards to recognize partners, projects and processes that use FHWA funding sources to go beyond environmental compliance and achieve environmental excellence. Awardees must make an outstanding contribution that goes beyond traditional transportation projects and that encourages environmental stewardship and partnerships to achieve a truly multi-faceted, environmentally sensitive transportation solution.

Award: Anyone can nominate a project, process, person or group that has used Federal Highway Administration funding sources to make an outstanding contribution to transportation and the environment. The nominator is responsible for submitting an application via the FHWA Environmental Excellence Awards Web site that gives a summary of the outstanding accomplishments of the entry. The collected information will be used by FHWA to evaluate, showcase and enhance the public's knowledge on incorporating environmental stewardship into the planning and project development process. Nominations will be reviewed by an independent panel of judges from varying backgrounds. It is anticipated that awards will be given every two years. The winners are presented plaques at an awards ceremony.

Respondents: Anyone who has used Federal Highway funding sources in the fifty states, the District of Columbia and Puerto Rico.

Frequency: The information will be collected biennially.

Estimated Average Burden per Response: 8 hours per respondent per application.

Estimated Total Annual Burden Hours: It is expected that the respondents will complete approximately 150 applications for an estimated total of 1200 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: June 19, 2012.
Steven Smith,
Chief, Information Technology Division.

[FR Doc. 2012-15357 Filed 6-21-12; 8:45 am]

BILLING CODE 4910-22-P